DEPARTMENT OF ENERGY

Federal Energy Regulatory Commission

[Docket No. RM16-12-000; Docket No. RM15-21-000]

Review of Generator Interconnection Agreements and Procedures; American Wind Energy Association; Notice Inviting Post-Technical Conference Comments

On May 13, 2016, Federal Energy Regulatory Commission (Commission) staff conducted a technical conference to discuss select issues related to the petition for rulemaking submitted by the American Wind Energy Association in Docket No. RM15-21-000 and other interconnection-related issues, including the interconnection of electric storage.

All interested persons are invited to file post-technical conference comments on any or all of the questions listed in the attachment to this Notice. We emphasize that commenters need not answer all of the questions. We encourage commenters to submit new or additional information in response to these questions rather than information that was previously submitted in Docket Nos. RM16-12-000 and/or RM15-21-000. Commenters should organize responses consistent with the numbering of the attached questions and identify to what extent their responses are generally applicable or pertain to a particular RTO/ISO. Commenters are also invited to reference material previously filed in this docket, including technical conference transcripts. These comments must be filed with the Commission no later than 5:00 p.m. Eastern Standard Time on June 20, 2016.

For more information about this Notice, please contact:

Tony Dobbins (Technical Information), Office of Energy Policy and Information, Federal Energy Regulatory Commission, 888 First Street NE., Washington, DC 20426, (202) 502-6630, tony.dobbins@ferc.gov.

Adam Pan (Legal Information), Federal Energy Regulatory Commission, 888 First Street NE., Washington, DC 20426, (202) 502-6023, adam.pan@ferc.gov.

Dated: June 3, 2016.
Kimberly D. Bose,
Secretary.

[FR Doc. 2016-13650 Filed 6-8-16; 8:45 am]

BILLING CODE 6717-01-P